FEDERAL DEPOSIT INSURANCE CORPORATION

[OMB No. 3064-0139]

Agency Information Collection Activities: Proposed Collection Renewal; Comment Request

AGENCY: Federal Deposit Insurance Corporation.

ACTION: Notice and request for comment.

SUMMARY: The Federal Deposit Insurance Corporation (FDIC), as part of its obligations under the Paperwork Reduction Act of 1995 (PRA), invites the general public and other Federal agencies to take this opportunity to comment on the renewal of the existing information collection described below (OMB Control No. 3064-0139).

DATES: Comments must be submitted on or before April 3, 2026.

ADDRESSES: Interested parties are invited to submit written comments to the FDIC by any of the following methods:

• Agency Website: https://www.fdic.gov/resources/regulations/federal-register-publications/.

• Email: comments@fdic.gov. Include the name and number of the collection in the subject line of the message.

• Mail: Robert Meiers, Regulatory Counsel, MB-3013, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Robert Meiers, Regulatory Attorney, Romeiers@fdic.gov, MB-3013, Federal Deposit Insurance Corporation, 550 17th Street NW, Washington, DC 20429.

SUPPLEMENTARY INFORMATION: Proposal to renew the following currently approved collection of information:

1. Title: CRA Sunshine.

OMB Number: 3064-0139.

Affected Public: Insured State nonmember banks and State savings associations and their affiliates and nongovernmental entities and persons.

Burden Estimate:

Summary of Estimated Annual Burden
[OMB No. 3064-0139]
Information Collection (IC) (obligation to respond) | Type of burden (frequency of response) | Number of respondents | Number of responses per respondent | Average time per response (HH:MM) | Annual burden (Hours)
IC 1. Reporting burden by covered banks—list of agreements, 12 CFR 346.6(d)(1)(ii) (Mandatory) | Reporting (On occasion) | 1 | 1 | 01:00 | 1
IC 2. Reporting burden by covered banks—copies of agreements, 12 CFR 346.6(d)(1)(i) (Mandatory) | Reporting (On occasion) | 1 | 1 | 01:00 | 1
IC 3. Reporting burden by NGEPs—copies of agreements, 12 CFR 346.6(c) (Mandatory) | Reporting (On occasion) | 1ᵖ | 0.333 | 01:00 | 0
IC 4. Reporting burden by covered banks—annual report, 12 CFR 346.7(b) (Mandatory) | Reporting (Annual) | 2 | 1 | 04:00 | 8
IC 5. Reporting burden by NGEPs—annual report, 12 CFR 346.7(b) (Mandatory) | Reporting (Annual) | 2 | 1 | 04:00 | 8
IC 6. Reporting burden by covered banks—filing NGEP report, 12 CFR 346.7(f)(2)(ii) (Mandatory) | Reporting (Annual) | 2 | 1 | 01:00 | 2
IC 7. Disclosure burden by covered banks—covered agreements to public, 12 CFR 346.6(b) (Mandatory) | Disclosure (On occasion) | 1 | 1 | 01:00 | 1
IC 8. Disclosure burden by NGEPs—covered agreements to public, 12 CFR 346.6(b) (Mandatory) | Disclosure (On occasion) | 1 | 1 | 01:00 | 1
IC 9. Disclosure burden by covered banks to NGEPs—CRA affiliate activities, 12 CFR 346.4(b) (Mandatory) | Disclosure (On occasion) | 1 | 1 | 01:00 | 1
Total Annual Burden (Hours): |  |  |  |  | 23
Source: FDIC.

General Description of Collection: This collection implements a statutory requirement imposing reporting, disclosure, and recordkeeping requirements on some community reinvestment-related agreements between insured depository institutions or affiliates, and nongovernmental entities or persons. The information assists interested members of the public in assessing whether the parties are fulfilling their agreements, and helps the agencies understand how the institutions they regulate are fulfilling their CRA responsibilities. There is no change in the method or substance of the collection. The overall reduction in burden hours is the result of economic fluctuation. In particular, the decline in the estimated overall annual time burden from 42 hours in 2023 to 19 hours in 2026 is the result of a reduction in the number respondents.

Request for Comment

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on January 29, 2026.
Jennifer M. Jones,
Deputy Executive Secretary.

[FR Doc. 2026-02073 Filed 1-30-26; 8:45 am]

BILLING CODE 6714-01-P